SURFACE TRANSPORTATION BOARD

[Docket No. AB 1339X]

Walkersville Southern Railroad, Inc.—Discontinuance of Service Exemption—in Frederick County, Md.; Correction

In notice document 2024-07299, appearing on pages 24084-24085 in the issue of Friday, April 5, 2024, make the following corrections:

—On page 24085, in the first column, the sentence “On March 18, 2024, Frederick County, Md. (Frederick County), filed a request for a notice of interim trail use or abandonment (NITU) to negotiate with CSXT to establish interim trail use and rail banking for the Line, under the National Trails System Act, 16 U.S.C. 1247(d),” is corrected to read “On March 18, 2024, Frederick County, Md. (Frederick County), filed a request for a notice of interim trail use or abandonment (NITU) to negotiate with MTA to establish interim trail use and rail banking for the Line, under the National Trails System Act, 16 U.S.C. 1247(d)”.

—On page 24085, in the first column, the sentence “Also on March 18, MTA filed a letter agreeing to negotiate with MTA toward a possible interim trail use/rail banking arrangement for the Line” is corrected to read “Also on March 18, MTA filed a letter agreeing to negotiate with Frederick County toward a possible interim trail use/rail banking arrangement for the Line”.

Dated: April 5, 2024.
By the Board, Scott M. Zimmerman, Acting Director, Office of Proceedings.
Jeffrey Herzig,
Clearance Clerk.

[FR Doc. 2024-07601 Filed 4-9-24; 8:45 am]

BILLING CODE 4915-01-P